FEDERAL COMMUNICATIONS COMMISSION

Notice of Public Information Collection(s) Being Reviewed by the Federal Communications Commission

February 13, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reducation Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 29, 2001. If you anticipate that you will be submitting comments, but find it difficult to do so within the period of time allowed by this notice, you should advise the contact listed below as soon as possible.

ADDRESSES: Direct all comments to Judy Boley, Federal Communications Commission, Room 1-C804, 445 12th Street, SW., Washington, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0691.

Title: Amendment of Parts 2 and 90 of the Commission's Rules to Provide for the Use of 200 Channels Outside the Designated Filing Areas in the 896-901 MHz Bands Allotted to the Specialized Mobile Radio Pool, 2nd Order on Reconsideration, 7th Report and Order for the 900 Specialized Mobile Radio Service.

Form No.: N/A.

Type of Review: Revision of a currently approved collection.

Respondents: Individuals or households and business or other for-profit.

Number of Respondents: 135.

Estimated Time Per Response: .50 to 2 hours.

Frequency of Response: On occasion reporting requirements, and recordkeeping requirements.

Total Annual Burden: 274 hours.

Total Annual Cost: $55,200.

Needs and Uses: This revised information collection is used to verify construction requirements that will be used by the Commission to determine whether the license has met the 900 MHz MTA construction requirements. The information is filed on FCC Form 601 electronically.

OMB Control No.: 3060-0950.

Title: Extending Wireless Telecommunications Services to Tribal Lands; WT Docket No. 99-266.

Form No.: N/A.

Type of Review: Extension of a currently approved collection.

Respondents: Business or other for-profit institutions, and state, local or tribal government.

Number of Respondents: 3,844.

Estimated Time Per Response: 10-190 hours.

Frequency of Response: On occasion reporting requirements, and recordkeeping requirements.

Total Annual Burden: 768,800 hours.

Total Annual Cost: N/A.

Needs and Uses: A winning bidder seeking a bidding credit to serve a qualifying tribal land within a particular market must: indicate on the FCC Form 601 that it intends to serve a qualifying tribal land within that market; within 90 days after the filing deadline, amend its FCC Form 601 and attach a certification from the tribal government that: (a) The tribal government authorizes the winning bidder to site facilities and provide service on its tribal land; (b) the tribal area to be served by the winning bidder constitutes qualifying tribal land; and (c) the tribal government has not and will not enter into an exclusive contract with the applicant precluding entry by other carriers, and will not unreasonably discriminate among wireless carriers seeking to provide service on the qualifying land. The winning bidder must also meet additional requirements.

The information will be used to ensure that tribal communities within federally-recognized tribal areas have access to wireless telecommunications services equivalent to that of the nation.

Federal Communications Commission.
Magalie Roman Salas,
Secretary.

[FR Doc. 01-4730 Filed 2-26-01; 8:45 am]

BILLING CODE 6717-01-M